DEPARTMENT OF HOMELAND SECURITY

Coast Guard

33 CFR Part 167

[USCG-2011-0351]

Port Access Route Study: The Atlantic Coast from Maine to Florida

AGENCY: Coast Guard, DHS.

ACTION: Notice of availability; interim report.

SUMMARY: The U. S. Coast Guard is making available an interim report issued by the Atlantic Coast Port Access Route Study (ACPARS) workgroup. The interim report provides status of the workgroup efforts and the remaining requirements to complete the study. The Coast Guard welcomes comments on the interim report or submission of additional information for consideration by the workgroup.

DATES: Comments and related material must reach the Docket Management Facility on or before October 11, 2012.

ADDRESSES: You may submit comments identified by docket number USCG-2011-0351 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329. To avoid duplication, please use only one of these four methods. See the “Public Participation and Request for Comments” portion of the SUPPLEMENTARY INFORMATION section below for instructions on submitting comments.

FOR FURTHER INFORMATION CONTACT: If you have questions on this notice of study contact Emile Benard, ACPARS Project Manager, telephone 757-398-6221, email Emile.R.Benard@uscg.mil or submit questions to ACPARS@uscg.mil. If you have questions on viewing or submitting material to the docket, call Ms. Renee K. Wright, Program Manager, Docket Operations, telephone 202-366-9826.

SUPPLEMENTARY INFORMATION:

I. Public Participation and Request for Comments

We encourage you to participate in this study by submitting comments and related materials. All comments received will be posted, without change, to http://www.regulations.gov and will include any personal information you have provided.

A. Submitting Comments

If you submit comments, please include the docket number for this rulemaking (USCG-2011-0351), indicate the specific section of this document to which each comment applies, and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Notice” and enter “USCG-2011-0351” in the “Keyword” box. Click “Search” then click on the balloon shape in the “Actions” column and type your comments. If you submit your comments by mail or hand delivery, submit them in an unbound format, no larger than 8½ by 11 inches, suitable for copying and electronic filing. If you submit them by mail and would like to know that they reached the Facility, please enclose a stamped, self-addressed postcard or envelope. We will consider all comments and material received during the comment period.

B. Viewing the Comments and Documents

To view the comments and documents mentioned in this preamble as being available in the docket, go to http://www.regulations.gov, click on the “read comments” box, which will then become highlighted in blue. In the “Keyword” box enter “USCG-2011-0351” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or by the individual signing the comment, if submitted on behalf of an association, business, labor union, etc.). You may review a Privacy Act, system of records notice regarding our public dockets in the January 17, 2008, issue of the Federal Register (73 FR 3316).

II. Background and Purpose

The Coast Guard announced in the Federal Register (76 FR 27288, May 11, 2011) that it was conducting a Port Access Route Study (PARS) to evaluate the continued applicability of, and the need for modifications to, current vessel routing measures or the creation of new routing measures off the Atlantic Coast from Maine to Florida. The impetus for the study was the Department of Interior's launch of the “Smart from the Start” renewable energy initiative that began with planning for wind development off the Atlantic Coast. The original comment period closed on August 9, 2011. A second comment period was announced to gather additional information and closed January 31, 2012. The initial announcement contains definitions and useful background information concerning the PARS. The public is encouraged to review the initial announcement.

The data gathered during the Atlantic Coast Port Access Route Study (ACPARS) may result in establishment of one or more new vessel routing measures, modification of existing routing measures, or disestablishment of existing routing measures off the Atlantic Coast from Maine to Florida. The goal of the ACPARS is to maintain or enhance navigational safety by examining existing shipping routes and waterway uses, and, to the extent practicable, reconcile the paramount right of navigation within designated port access routes with other reasonable waterway uses such as the leasing of outer continental shelf blocks for the construction and operation of offshore renewable energy facilities. The recommendations of the study may lead to future rulemaking action or appropriate international agreements.

The Coast Guard established the Atlantic Coast Port Access Route Study Workgroup to carry out the study and also coordinate efforts to support Coast Guard participation as a Cooperating Agency in the Bureau of Ocean Energy Management's efforts to identify priority areas for wind development.

The progress of the WG to date, as well as what remains to be accomplished have been compiled in an interim report dated July 13, 2012. The ACPARS Interim Report is being made available to the public through this Federal Register notice. The report will be available on the Federal Register docket and also on the ACPARS Web site at www.uscg.mil/lantarea/acpars.

III. ACPARS Interim Report—Executive Summary

The Atlantic Coast Port Access Route Study Workgroup (WG) was chartered on 11 May 2011, and was given three objectives to complete within the limits of available resources: (1) Determine whether the Coast Guard should initiate actions to modify or create safety fairways, Traffic Separation Schemes (TSSs) or other routing measures; (2) Provide data, tools and/or methodology to assist in future determinations of waterways suitability for proposed projects; and (3) Develop, in the near term, Automated Identification System (AIS) products and provide other support as necessary to assist Districts with all emerging coastal and offshore energy projects. The WG has conducted public and stakeholder outreach including two public comment periods advertised in the Federal Register. The WG has faced challenges in the lack of Coast Guard (CG) capability to fully analyze AIS data and in identifying funding to perform modeling and analysis. This resulted in an inability to predict changes in traffic patterns or determine the resultant change in navigational safety risk given different siting scenarios of offshore renewable energy installations. However, the WG has developed a methodology for initially classifying lease blocks as: not suitable (Red), may be suitable with more study (Yellow) or suitable (Green), based on proximity to shipping routes. This methodology has been used by the CG to provide input to the Bureau of Ocean Energy Management (BOEM) regarding the potential impact to navigation of areas being proposed for wind energy development. The WG has determined, given the lack of complete AIS data and rudimentary analysis to date, that recommending even preliminary routing measures is not appropriate at this time. The WG has concluded that modeling and analysis, as described in the Phase 3 of the ACPARS interim report, is critical to determine if routing measures are appropriate and to evaluate the change in navigational safety risk resulting from different siting and routing scenarios. The CG is working with BOEM to develop a project to perform the Phase 3 modeling and analysis. This project is scheduled to begin in late summer 2012. The Coast Guard is also contracting the services of a Geographic Information System (GIS) analyst to support efforts to better characterize vessel traffic and further explore creating initial proposals for routing measures independent of the Phase 3 modeling and analysis.

This notice is issued under authority of 33 U.S.C. 1223(c) and 5 U.S.C. 552.

Dated: August 31, 2012.
Robert C. Parker,
Vice Admiral, U.S. Coast Guard, Commander, Atlantic Area.

[FR Doc. 2012-22295 Filed 9-10-12; 8:45 am]

BILLING CODE 9110-04-P